DEPARTMENT OF COMMERCE

National Oceanic and Atmospheric Administration

50 CFR Part 660

RIN 0648-AW08

A Vessel License Limitation Program for the Pacific Whiting Fishery; Amendment 15 to the Pacific Coast Groundfish Fishery Management Plan

AGENCY: National Marine Fisheries Service (NMFS), National Oceanic and Atmospheric Administration (NOAA), Commerce.

ACTION: Availability of an amendment to a fishery management plan; request for comments.

SUMMARY: NMFS announces that the Pacific Fishery Management Council (Council) has submitted Amendment 15 to the Pacific Coast Groundfish Fishery Management Plan (FMP) for review by the Secretary of Commerce (Secretary). Amendment 15 would modify the FMP to implement a limited entry program for the non-tribal Pacific whiting fishery. Amendment 15 is intended to limit participation in the Pacific whiting fishery within the U.S. West Coast Exclusive Economic Zone until the implementing of a trawl rationalization program in the Pacific whiting fishery.

DATES: Comments on Amendment 15 must be received on or before May 19, 2008.

ADDRESSES: You may submit comments, identified by RIN 0648-AW08 by any of the following methods:

• Electronic Submissions: Submit all electronic public comments via the FederaleRulemaking Portal http://www.regulations.gov.

• Fax: 206-526-6736, Attn: Becky Renko.

• Mail: D. Robert Lohn, Administrator, Northwest Region,

NMFS, Attn: Becky Renko, 7600 Sand Point Way NE, Seattle, WA 98115-0070.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Becky Renko (Northwest Region, NMFS), phone: 206-526-6129; fax: 206-526-6736; and e-mail: becky.renko@noaa.gov.

SUPPLEMENTARY INFORMATION:

Electronic Access

Amendment 15 is available on the Pacific Fishery Management Council's (Council's or Pacific Council's) website at: http://www.pcouncil.org/groundfish/gffmp.html.

The Magnuson-Stevens Fishery Conservation and Management Act (Magnuson-Stevens Act) requires that each regional fishery management council submit any FMP or plan amendment it prepares to NMFS for review and approval, disapproval, or partial approval. The Magnuson-Stevens Act also requires that NMFS, upon receiving an FMP or amendment, immediately publish a notice that the FMP or amendment is available for public review and comment. NMFS will consider the public comments received during the comment period described above in determining whether to approve Amendment 15 to the FMP.

Amendment 15 would implement a limited entry program for the Pacific whiting fishery, which occurs within the U.S. Exclusive Economic Zone off the coasts of Washington, Oregon, and California. The whiting fishery is currently managed with separate allocations for the tribal and non-tribal whiting fisheries, and with sector-specific whiting allocations for the three non-tribal sectors: mothership, catcher/processor, and shore-based. Vessels that participate in the mothership sector include both the motherships themselves and the catcher vessels that deliver to the at-sea mothership processors. Vessels that participate in the catcher/processor sector are self-contained at-sea processors that both catch and process fish. Vessels that participate in the shore-based sector are catcher vessels that deliver their catch to land-based processing plants. This action would limit participation in each of the three non-tribal sectors of the Pacific whiting fishery to those vessels, both catcher vessels and at-sea processing vessels, with historic participation in those particular sectors.

NMFS welcomes comments on the proposed FMP amendment through the end of the comment period. A proposed rule to implement Amendment 15 has been submitted for Secretarial review and approval. NMFS expects to publish and request public review and comment on proposed regulations to implement Amendment 15 in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: March 13, 2008.
Emily H. Menashes,
Acting Director, Office of Sustainable Fisheries, National Marine Fisheries Service.

[FR Doc. E8-5561 Filed 3-18-08; 8:45 am]

BILLING CODE 3510-22-S